DEPARTMENT OF AGRICULTURE

Forest Service

Alabama Resource Advisory Committee

AGENCY: Forest Service, USDA.

ACTION: Notice of meeting.

SUMMARY: The Alabama Resource Advisory Committee (RAC) will meet in Montgomery, Alabama. The RAC is authorized under the Secure Rural Schools and Community Self-Determination Act (the Act) and operates in compliance with the Federal Advisory Committee Act. The purpose of the RAC is to improve collaborative relationships and to provide advice and recommendations to the Forest Service concerning projects and funding consistent with the Act.

DATES: The meeting will be held on July 31, 2017, from 8:30 a.m. to 4:30 p.m.

All RAC meetings are subject to cancellation. For status of meeting prior to attendance, please contact the person listed under FOR FURTHER INFORMATION CONTACT.

ADDRESSES: The meeting will be held at the National Forest of Alabama's Supervisor's Office, Downstairs Conference Room, 2946 Chestnut Street, Montgomery, Alabama. For participants that would like to attend via conference call, please contact the person listed under FOR FURTHER INFORMATION CONTACT.

Written comments may be submitted as described under SUPPLEMENTARY INFORMATION. All comments, including names and addresses when provided, are placed in the record and are available for public inspection and copying. The public may inspect comments received at the National Forests of Alabama's Supervisor's Office. Please call ahead to facilitate entry into the building.

FOR FURTHER INFORMATION CONTACT: Lisa Kamnikar, RAC Coordinator, by phone at 334-832-4470 ext. 114 or via email at lkamnikar@fs.fed.us; or Tammy Freeman Brown, Designated Federal Officer, by phone 334-832-4470 ext. 144 or via email at tfreemanbrown@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to review and recommend project proposals.

The meeting is open to the public. The agenda will include time for people to make oral statements of three minutes or less. Individuals wishing to make an oral statement should request in writing by close-of business, July 21, 2017, to be scheduled on the agenda. Anyone who would like to bring related matters to the attention of the RAC may file written statements with the RAC staff before or after the meeting. Written comments and requests for time to make oral comments must be sent to Lisa Kamnikar, Alabama RAC Coordinator, 2946 Chestnut Street, Montgomery, Alabama 36107.; by email to lkamnikar@fs.fed.us, or via facsimile to 334-241-8111.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: June 12, 2017.
Glenn Casamassa,
Assoctiate Deputy Chief, National Forest System.

[FR Doc. 2017-14131 Filed 7-5-17; 8:45 am]

BILLING CODE 3411-15-P